DEPARTMENT OF TRANSPORTATION

Federal Aviation Administration

14 CFR Part 39

[Docket No. FAA-2004-19539; Directorate Identifier 2004-NM-06-AD; Amendment 39-14375; AD 2005-23-17]

RIN 2120-AA64

Airworthiness Directives; Boeing Model 737 Airplanes

AGENCY: Federal Aviation Administration (FAA), Department of Transportation (DOT).

ACTION: Final rule.

SUMMARY: The FAA is adopting a new airworthiness directive (AD) for certain Boeing Model 737 airplanes. This AD requires, for certain airplanes, a one-time detailed inspection for interference between a clamp assembly and the wires behind the P15 refuel panel, and corrective actions if necessary. For certain other airplanes, this AD requires a one-time detailed inspection for discrepancies of the wires behind the P15 refuel panel; and corrective and related investigative actions if necessary. This AD is prompted by evidence of chafed wiring behind the P15 refuel panel and arcing to the back of the P15 refuel panel and adjacent wing structure. We are issuing this AD to detect and correct chafing of the wiring behind the P15 refuel panel, which could lead to arcing and fire with consequent airplane damage and injury to refueling personnel.

DATES: This AD becomes effective December 21, 2005.

The incorporation by reference of certain publications listed in the AD is approved by the Director of the Federal Register as of December 21, 2005.

ADDRESSES: You may examine the AD docket on the Internet at http://dms.dot.gov or in person at the Docket Management Facility, U.S. Department of Transportation, 400 Seventh Street SW., Nassif Building, room PL-401, Washington, DC.

Contact Boeing Commercial Airplanes, P.O. Box 3707, Seattle, Washington 98124-2207, for service information identified in this AD.

FOR FURTHER INFORMATION CONTACT: Sherry Vevea, Aerospace Engineer, Propulsion Branch, ANM-140S, FAA, Seattle Aircraft Certification Office, 1601 Lind Avenue, SW., Renton, Washington 98055-4056; telephone (425) 917-6514; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 737 airplanes. That NPRM was published in the Federal Register on November 5, 2004 (69 FR 64515). That NPRM proposed to require, for certain airplanes, a one-time detailed inspection for interference between a clamp assembly and the wires behind the P15 refuel panel, and corrective actions if necessary. For certain other airplanes, that NPRM proposed to require a one-time detailed inspection for discrepancies of the wires behind the P15 refuel panel; and corrective and related investigative actions if necessary.

Explanation of Service Information Revision

Since the issuance of the NPRM, the manufacturer has revised the service bulletins referenced in this AD. We have reviewed Boeing Special Attention Service Bulletins 737-28-1193 and 737-28-1200, both Revision 1, both dated July 28, 2005. We have determined that these revised service bulletins will neither increase the economic burden on any operator nor increase the scope of the AD and should be referenced as the appropriate sources of service information for accomplishing the requirements of the AD. Therefore, in the AD, we have revised paragraph (f) to specify the revised service bulletins, inserted new paragraph (g) to give credit for using the original issues of the service bulletins (which were referenced as the appropriate sources of service information for accomplishing the requirements of the AD) to accomplish the required actions before the effective date of the AD, and re-identified existing paragraph (g) to (h).

Comments

We provided the public the opportunity to participate in the development of this AD. We have considered the comments that have been submitted on the NPRM.

Request To Revise Inspection and Corrective Action

One commenter requests that paragraph (f)(2)(ii) of the NPRM be changed in the AD to read “For Group 2 airplanes only as defined in Service Bulletin 737-28-1200: Perform a one-time detailed inspection for discrepancies of the wires in wire bundle W0024 to connector D04578P on the back of the P15 refuel panel and do any applicable corrective actions before further flight.” The commenter states this change will provide appropriate operator guidance by tying the detailed inspection of Group 2 airplanes to the applicable service bulletin.

We partially agree. Paragraph (f)(2) of the AD clearly states that all applicable actions listed in paragraphs (f)(2)(i) and (f)(2)(ii) of this AD must be done in accordance with Boeing Special Attention Service Bulletin 737-28-1200, Revision 1, dated July 28, 2005. However, for clarity, as paragraph (f)(2)(i) of the NPRM refers to “Service Bulletin 737-28-1200,” we have revised paragraph (f)(2)(ii) of the AD to also refer to “Service Bulletin 737-28-1200.”

Request for Credit for Visual Check

Three commenters request that the AD clarify that inspections accomplished prior to the effective date of the AD using the “visual check” criteria specified in Boeing Special Attention Service Bulletin 737-28-1193, dated April 24, 2003, satisfy the “detailed inspection” requirement of paragraph (f) of the NPRM. One commenter requests that the same clarification be applied for Boeing Special Attention Service Bulletin 737-28-1200, dated July 10, 2003. Another commenter requests that “Note 1” and all references to it be deleted from the AD. The commenters state that Note 1 could be interpreted so that only a detailed inspection as defined in the NPRM that is accomplished prior to the effective date of the AD shall receive credit in accordance with paragraph (e) of the AD. The commenters assert that the inspection criteria identified as a visual check in Boeing Special Attention Service Bulletin 737-28-1193 are equivalent to the detailed inspection criteria described in Note 1 of the NPRM, and therefore, applicable airplanes that have already accomplished the inspection in accordance with Special Attention Service Bulletin 737-28-1193 will not need to be re-inspected.

We partially agree. Airplanes that have received a visual check in accordance with Boeing Special Attention Service Bulletin 737-28-1193, dated April 24, 2003; or Boeing Special Attention Service Bulletin 737-28-1200, dated July 10, 2003; as applicable, prior to the effective date of this AD, may satisfy the requirement of this AD to perform a detailed inspection. If the visual check was performed to the same level of complexity and using equipment comparable to that specified for a detailed inspection as defined in Note 1 of the AD, credit is given according to paragraph (e) of the AD. However, if the visual check did not meet all the parameters defined by Note 1, additional work is necessary to comply with the requirements of the AD. Therefore, we do not agree that the specified visual check necessarily meets the requirements of a detailed inspection; nor do we agree that Note 1 and its applicable references should be deleted from the AD, as Note 1 clarifies what constitutes a detailed inspection. However, if anyone wishes to submit technical data demonstrating that they have performed a visual check that meets the requirements of a detailed inspection as defined in Note 1 of the AD, they may request approval of an alternative method of compliance (AMOC) in accordance with paragraph (h)(1) of the AD. We have not changed the AD in this regard.

Request for Revised Costs of Compliance

Two commenters request that we revise the costs of compliance. One commenter requests that we increase the number of work hours to reflect installation of Teflon sleeves around the wiring and revise the estimated cost accordingly. A second commenter states that it took 6 man-hours per airplane to accomplish the actions specified by the service bulletin, including operational tests. Though the second commenter made no request to change the work hours, we infer that the commenter wishes us to revise the estimated cost to reflect 6 man-hours.

We do not agree with this request. Costs of compliance are limited to only the actions required by the AD, which, in this case, are those actions related to the detailed inspection of the wires in wire bundle W0024 to connector D04578P on the back of the P15 refueling panel required by paragraph (f)(1) of the AD. The cost of any “applicable corrective actions” is conditional on the result of the inspection and, regardless of any AD direction, those actions must be performed to correct an identified unsafe condition to ensure airworthy operation of the airplane, as required by the Federal Aviation Regulations. Further, the number of work-hours listed in the AD is consistent with the number provided by the service bulletin. We have not changed the AD in this regard.

Request To Permit Concurrent Use of Information Notices

One commenter states that Boeing service bulletins listed in the NPRM have information notices (INs) issued against them that provide minor clarifications and revisions to materials and part numbers. The commenter requests that the final rule allow for the use of the INs with the respective service bulletins when accomplishing the requirements of the AD. The commenter states this would allow operators to take advantage of the changes in the INs without having to request an AMOC.

We concur that the applicable INs may be used with their respective Boeing service bulletins when accomplishing the requirements of the AD. Information Notices 737-28-1193 IN 01 and 737-28-1200 IN 01 were released on September 11, 2003, to provide alternate part numbers, and minor clarifications and revisions to materials and part numbers. The information in these INs was subsequently incorporated into Boeing Special Attention Service Bulletins 737-28-1193 and 737-28-1200, both Revision 1, both dated July 28, 2005. Therefore, we have revised paragraph (g) of the AD to give credit for using the above INs with Boeing Special Attention Service Bulletins 737-28-1193, dated April 24, 2003; or 737-28-1200, dated July 10, 2003; as applicable, for actions accomplished prior to the effective date of this AD.

Request To Reduce the Compliance Time

One commenter requests that the compliance time be reduced. The commenter states that the nature of the fault and hazard that may exist during ground and flight operations justifies reducing the 18 month compliance time specified in paragraph (f) of the NPRM. The commenter did not provide data to substantiate any reduction of the compliance time.

We do not agree to revise the compliance time. The P15 refueling panel is powered only when the refueling panel access door is open for refueling the airplane, so there is no risk imposed during flight operations. Further, the refueling panel is properly grounded to protect the operator from any shock hazard during refueling. Therefore, the unsafe condition does not warrant immediate action and reduced compliance time; however, operators are always free to accomplish the requirements of the AD at any time before the compliance time. We have not changed the AD in this regard.

Request To Increase the Compliance Time

One commenter requests that the compliance time be increased. The commenter states that Boeing Special Attention Service Bulletin 737-28-1200 recommends a 24-month compliance time and requests that the compliance time be increased to 24 months to align with current Model 737 Next Generation maintenance programs.

We do not agree. We considered the urgency associated with the unsafe condition and the practical aspects of accomplishing the required inspection within an interval that corresponds to the normal maintenance schedules of most affected operators and, with manufacturer concurrence, arrived at an appropriate compliance time of 18 months for all affected airplanes. Further, the manufacturer, in revising Special Attention Service Bulletin 737-28-1200, has reduced the recommended compliance time from 24 months to 18 months, which aligns with the compliance time proposed in the NPRM. In considering all these factors, we determined that this compliance time represents an appropriate interval during which the wiring behind the P15 refueling panel can be inspected and any necessary corrective action taken while still maintaining an adequate level of safety. However, under the provisions of paragraph (h)(1) of the AD, we may approve requests for adjustments to the compliance time if data are submitted to substantiate that such adjustments would provide acceptable levels of safety. In addition, if further technical data are presented that would justify a revised compliance time, we may consider further rulemaking on this issue. We have not changed the AD in this regard.

Clarification of AMOC Paragraph

We have revised this action to clarify the appropriate procedure for notifying the principal inspector before using any approved AMOC on any airplane to which the AMOC applies.

Conclusion

We have carefully reviewed the available data, including the comments that have been submitted, and determined that air safety and the public interest require adopting the AD with the changes described previously. We have determined that these changes will neither increase the economic burden on any operator nor increase the scope of the AD.

Costs of Compliance

This AD affects about 1,653 airplanes of U.S. registry and 4,254 airplanes worldwide. The inspections take about 3 work hours per airplane, at an average labor rate of $65 per work hour. Based on these figures, the estimated cost of this AD for U.S. operators is $322,335, or $195 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-23-17 Boeing: Amendment 39-14375. Docket No. FAA-2004-19539; Directorate Identifier 2004-NM-06-AD.

Effective Date

(a) This AD becomes effective December 21, 2005.

Affected ADs

(b) None.

Applicability

(c) This AD applies to the Boeing airplanes listed in Table 1 of this AD, certificated in any category:

Table 1.—Applicability
Airplane | Line numbers
Model 737-100, -200, -200C, -300, -400, and -500 series airplanes | 1 through 3132 inclusive.
Model 737-600, -700, -700C, -800, and -900 series airplanes | 0001 through 1240 inclusive.

Unsafe Condition

(d) This AD was prompted by evidence of chafed wiring behind the P15 refuel panel and arcing to the back of the P15 refuel panel and adjacent wing structure. We are issuing this AD to detect and correct chafing of the wiring behind the P15 refuel panel, which could lead to arcing and fire with consequent airplane damage and injury to refueling personnel.

Compliance

(e) You are responsible for having the actions required by this AD performed within the compliance times specified, unless the actions have already been done.

Inspection and Corrective Actions

(f) Within 18 months after the effective date of this AD, perform the following actions as applicable:

(1) For Model 737-100, -200, -200C, -300, -400, and -500 series airplanes: Perform a one-time detailed inspection of the wires in wire bundle W0024 to connector D04578P on the back of the P15 refuel panel for discrepancies, and do any applicable corrective and related investigative actions before further flight, in accordance with the Accomplishment Instructions of Boeing Special Attention Service Bulletin 737-28-1193, Revision 1, dated July 28, 2005.

(2) For Model 737-600, -700, -700C, -800, and -900 series airplanes: Perform all applicable actions listed in paragraphs (f)(2)(i) and (f)(2)(ii) of this AD in accordance with the Accomplishment Instructions of Boeing Special Attention Service Bulletin 737-28-1200, Revision 1, dated July 28, 2005.

(i) For Group 1 and Group 2 airplanes as defined in Service Bulletin 737-28-1200: Perform a one-time detailed inspection for discrepancies of the clamp and T-bolt assembly on the wing thermal anti-ice duct near the P15 refuel panel and do any applicable corrective actions before further flight.

(ii) For Group 2 airplanes only as defined in Service Bulletin 737-28-1200: Perform a one-time detailed inspection for discrepancies of the wires in wire bundle W0024 to connector D04578P on the back of the P15 refuel panel and do any applicable corrective actions before further flight.

Note 1: For the purposes of this AD, a detailed inspection is: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Credit for Actions Done Previously

(g) Actions accomplished before the effective date of this AD in accordance with Boeing Special Attention Service Bulletin 737-28-1193, dated April 24, 2003; or Boeing Special Attention Service Bulletin 737-28-1200, dated July 10, 2003; as applicable; including Information Notices 737-28-1193 IN 01 and 737-28-1200 IN 01; both dated September 11, 2003; as applicable, are acceptable for compliance with the corresponding actions required by this AD.

Alternative Methods of Compliance (AMOCs)

(h)(1) The Manager, Seattle Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(i) You must use Boeing Special Attention Service Bulletin 737-28-1193, Revision 1, dated July 28, 2005; or Boeing Special Attention Service Bulletin 737-28-1200, Revision 1, dated July 28, 2005; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 7, 2005.
Kalene C. Yanamura,
Acting Manager, Transport Airplane Directorate, Aircraft Certification Service.

[FR Doc. 05-22591 Filed 11-15-05; 8:45 am]

BILLING CODE 4910-13-P